DEPARTMENT OF HEALTH AND HUMAN SERVICES

Substance Abuse and Mental Health Services Administration

Notice of Meeting of the Advisory Committee for Women's Services (ACWS)

Notice is hereby given of a meeting of the Substance Abuse and Mental Health Services Administration's (SAMHSA) Advisory Committee for Women's Services (ACWS) on August 27, 2024.

The meeting will include discussions on assessing SAMHSA's current strategies, including the mental health and substance use needs of the women and girls population. Additionally, the ACWS will be addressing strategic initiatives and policy recommendations regarding Maternal Behavioral Health, pregnant and parenting women, eating disorders, and gender-based violence.

The meeting is open to the public and will be held in-person and virtually (virtually is best option since physical space is very restricted). Interested persons may present data, information, or views, orally or in writing, on issues pending before the committee. Written submissions and oral presentations from the public should be coordinated with the contact person by August 20, 2024. Oral presentations from the public will be scheduled at the conclusion of the meeting during the Public Comment section. Up to approximately three minutes will be allotted for each oral presentation and as time permits, as these are presented in the order received. All oral and written comments will become part of the meeting's official records.

The meeting may be accessed via telephone or web conference. To obtain the call-in number and access code, submit written or brief oral comments, or request special accommodations for persons with disabilities, please register on-line at: https://snacregister.samhsa.gov/, or communicate with SAMHSA's Designated Federal Officer, Ms. Valerie Kolick.

Substantive meeting information and a roster of ACWS members may be obtained either by accessing the SAMHSA Committees' Web, https://www.samhsa.gov/about-us/advisory-councils/acws, or by contacting Ms. Kolick.

Committee Name: Substance Abuse and Mental Health Services Administration, Advisory Committee for Women's Services (ACWS).

Date/Time/Type: Tuesday, August 27, 2024, from 9:00 a.m. to 4:30 p.m., EDT (OPEN).

Place: Hubert H. Humphrey Building, 200 Independence Ave. SW, Washington, DC 20201 (Room 305A).

Contact: Valerie Kolick, Designated Federal Officer, SAMHSA's Advisory Committee for Women's Services, 5600 Fishers Lane, Rockville, MD 20857, Telephone: (240) 276-1738, Email: Valerie.kolick@samhsa.hhs.gov.

Authority: Public Law 92-463.

Dated: July 31, 2024.
Carlos Castillo,
Committee Management Officer, SAMHSA.

[FR Doc. 2024-17331 Filed 8-5-24; 8:45 am]

BILLING CODE 4162-20-P